DEPARTMENT OF COMMERCE

Foreign-Trade Zones Board

[Docket 47-2009]

Foreign-Trade Zone 121 - Albany, New York, Application for Expansion and Reorganization Under Alternative Site Framework, Amendment of Application

A request has been submitted to the Foreign-Trade Zones Board (the Board) by the Capital District Regional Planning Commission (CDRPC), grantee of FTZ 121, to amend its application to expand and reorganize FTZ 121 under the alternative site framework (ASF) adopted by the Board (74 FR 1170, 01/12/09; correction 74 FR 3987, 01/22/09).

CDRPC is now requesting to modify its application to combine previously proposed Sites 5 and 6 (with an expansion of the cumulative acreage by 163 acres) as follows: proposed Site 5, 1694 acres, Luther Forest-STEP, 10 Hermes Road, Malta, NY. The applicant proposes that Site 5 be subject to a seven-year “sunset” time limit, instead of the standard five-year “sunset” time limit that would otherwise apply to magnet sites under the ASF.

Public comment is invited from interested parties. Submissions (original and 3 copies) shall be addressed to the Board's Executive Secretary at the address below. The closing period for their receipt is June 10, 2010. Rebuttal comments in response to material submitted during the foregoing period may be submitted during the subsequent 15-day period (to June 25, 2010).

A copy of the application will be available for public inspection at the Office of the Executive Secretary, Foreign-Trade Zones Board, Room 2111, U.S. Department of Commerce, 1401 Constitution Avenue NW, Washington, DC 20230-0002, and in the “Reading Room” section of the Board's website, which is accessible via www.trade.gov/ftz. For further information, contact Maureen Hinman at maureen.hinman@trade.gov or (202) 482-0627.

Dated: May 5, 2010.
Andrew McGilvray,
Executive Secretary.

[FR Doc. 2010-11167 Filed 5-10-10; 8:45 am]

BILLING CODE 3510-DS-S